DEPARTMENT OF COMMERCE

Census Bureau

15 CFR Part 40

[Docket No. 260108-0014]

RIN 0607-AA67

Eliminating Regulations Contemplating Collaboration With USAID To Train Foreign Participants in Census Procedures and General Statistics

AGENCY: Census Bureau, Department of Commerce.

ACTION: Final rule.

SUMMARY: By this rule, the Census Bureau is eliminating its regulations pertaining to a now-obsolete joint effort between the United States Department of Commerce (Commerce) and the United States Agency for International Development (USAID) to train foreign nationals in census and statistical procedures. This action is necessary to ensure that the Census Bureau's regulations are accurate and up-to-date. The intended effect is to remove outdated and unnecessary regulatory content, to reduce the potential for confusion, and to reprioritize American interests.

DATES: The rule is effective January 23, 2026.

FOR FURTHER INFORMATION CONTACT: Daniel Sweeney, Senior Counsel, Office of the General Counsel, at (202) 482-1395.

SUPPLEMENTARY INFORMATION:

I. Executive Summary

The Census Bureau is eliminating all of the regulations found at 15 CFR part 40. Such regulations pertain to the training of foreign nationals in census procedures and general statistics pursuant to a now-obsolete collaborative arrangement between Commerce and USAID. The Census Bureau is proceeding with this elimination to ensure that its regulations are accurate and up-to-date, to remove unnecessary and potentially confusing regulatory language, and to recenter American interests.

II. Background

This action concerns the Census Bureau's regulations at 15 CFR part 40, titled “Training of Foreign Participants in Census Procedures and General Statistics.” The regulations at part 40 formalize certain aspects of a 1954 Memorandum of Agreement and establish the framework by which the Census Bureau, in cooperation with the USAID and other government agencies, may provide technical training in census and statistical procedures to foreign nationals.

A. Regulatory History

The regulations at part 40 were established by a final rule published on January 4, 1963 (28 FR 119). The 1963 rule superseded a previous version of the part that was titled “Training Grants in Census Procedures.” The authority for the regulations at part 40 derives from several statutes, including 5 U.S.C. 301, 22 U.S.C. 1456, and 31 U.S.C. 686, as well as a Memorandum of Agreement between Commerce and the Foreign Operations Administration signed on June 10, 1954. As relevant, the Foreign Operations Administration was abolished by Executive Order 10610 the following year, and its functions were transferred to the Department of Defense (now Department of War) and the Department of State (including USAID).

Since the abolition of the Foreign Operation Administration, USAID has been the primary agency awarding training grants under part 40. The Census Bureau, on the other hand, has been the agency actually providing the training related to census and statistical procedures. Such trainings have covered topics such as questionnaire development, data processing, sampling techniques, and statistical analysis, accounting for the needs and limitations of participants' home countries.

In 2025, the Department of State significantly scaled back USAID and assumed its few remaining functions. Collaboration between the Census Bureau and USAID is suspended.

B. Description of Regulations

Part 40 consists of five sections: §§ 40.1, 40.2, 40.3, 40.4, and 40.5.

Section 40.1 provides an overview of the kinds of training grants that can be offered under part 40. See 15 CFR 40.1. Such grants include those related to conference courses, seminar laboratory exercises, observation work, and field training. See 15 CFR 40.1(a)-(f).

Section 40.2 sets forth the qualifications required to be eligible for a training grant under part 40. See 15 CFR 40.2. Specifically, applicants must be (1) “[a] bona-fide citizen of a country with whom the United States has proper diplomatic arrangements for such training problems,” (2) “[a]ble to speak, read, write, and understand the English language,” (3) “[s]ponsored by his government either directly with the United States or through a public international agency,” and (4) “[p]hysically able to undertake the activities incident to the course of training and free from communicable diseases.” 15 CFR 40.2(a)(1)-(4).

Section 40.3 acknowledges that, “[i]n compliance with the provisions contained in the Memorandum of Agreement executed between the Department of Commerce and the Foreign Operations Administration (now AID) on June 10, 1954, the Bureau of the Census is authorized within its areas of competence and available resources to continue its training of foreign nationals under the general guidance of the Department of Commerce and in cooperation with the bilateral technical assistance programs of the United States Government.” 15 CFR 40.3.

Section 40.4 sets forth certain administration provisions related to the selection of participants and funding of costs. See 15 CFR 40.4. In particular, subsection (a) discusses the materials that must be provided to the Census Bureau in order for it to develop a training program at the request and expense of USAID; subsection (b) states that the Census Bureau “reserves the right to accept . . . only those participants whom it finds qualified to make satisfactory use of its training facilities and resources”; and subsection (c) provides that various administrative responsibilities will be the responsibility of USAID under the provisions of the Memorandum of Agreement. See 15 CFR 40.4(a)-(c).

Lastly, § 40.5 states that the Census Bureau “also undertakes the training of foreign nationals proposed through the Department of State under the International Exchange Service (IES) or under the sponsorship of public international agencies.” 15 CFR 40.5.

III. Discussion

The Census Bureau has determined that it is appropriate to fully remove 15 CFR part 40 for the following reasons.

As an initial matter, no statutory authority requires the promulgation of the regulations currently set forth in part 40. This lack of a statutory mandate alone warrants reconsideration of part 40, as it is now Commerce's approach—pursuant to a broader deregulatory effort—to remove any regulation that is (i) not specifically required or authorized by statute and (ii) not justified by a compelling policy reason. Such an approach helps ensure that the body of Federal regulations conforms to the scope of underlying statutory authorities and does not impose any unnecessary burdens on the public. The Census Bureau's elimination of part 40 is consistent with that approach.

Additionally, the program established by part 40 is obsolete. USAID—the agency upon which the Census Bureau relied to carry out part 40—is no longer operating in the manner contemplated by part 40, and there is no indication that such collaboration is likely to resume. Even if any such collaboration were to resume, the Census Bureau is satisfied that the Memorandum of Agreement would provide sufficient operational guidance and detail. In any event, for the time being, the continued presence of part 40 poses a risk of confusion for both the American public and foreign nationals. The elimination of part 40 will help ensure that the Census Bureau's regulations remain accurate and up-to-date, with minimal potential sources of distraction and confusion.

Finally, the Census Bureau's mission is to serve as the United States' leading provider of quality data about its own people and economy; the elimination of part 40 is consistent with a renewed focus on that priority.

IV. Regulatory Certifications

A. Administrative Procedure Act

Pursuant to 5 U.S.C. 553(b)(B), the Commerce finds good cause to waive the prior notice and opportunity for public participation requirements of the Administrative Procedure Act for this final rule. Commerce has determined that prior notice and opportunity for public participation is unnecessary because this rule only removes regulatory language that is currently obsolete and not required by any statute; the obsolete and unnecessary nature of this regulatory language will not be cured by any public comment. Commerce has also determined that delaying the removal of this regulatory language for the sake of carrying out the notice and comment process would be contrary to the public interest, as the language no longer serves any meaningful function but does pose a risk of confusion and distraction. Commerce therefore finds good cause to waive the public notice and comment period under 553(b)(B) and, for the same reason, to waive the 30-day delay in effectiveness under 553(d).

B. Executive Orders 12866, 14192, 13132

The Office of Management and Budget has determined this rule is not significant pursuant to Executive Order (E.O.) 12866. This rule is an E.O. 14192 deregulatory action. This rule does not contain policies having federalism implications as the term is defined in E.O. 13132.

C. Regulatory Flexibility Act

Because a notice of proposed rulemaking and an opportunity for public participation are not required to be given for this rule by 5 U.S.C. 553(b)(B), the analytical requirements of the Regulatory Flexibility Act (5 U.S.C. 601 et seq.) are not applicable. Accordingly, no regulatory flexibility analysis is required, and none has been prepared.

D. Paperwork Reduction Act

This rule will not impose additional reporting or recordkeeping requirements under the Paperwork Reduction Act of 1995, 44 U.S.C. 3501 et seq.

List of Subjects for 15 CFR Part 40

Bilateral technical assistance programs, Census procedures and general statistics training grants for foreign participants, U.S. Agency for International Development, Education, Foreign relations, Grant programs, Statistics, Technical assistance.

Dated: January 20, 2026.
George Cook,
Chief of Staff to the Under Secretary for Economic Affairs performing the non-exclusive functions and duties of the Director of the Census Bureau.

PART 40—[REMOVED AND RESERVED]

For the reasons set forth in the preamble and under the authority of 5 U.S.C. 301 and 13 U.S.C. 4, the Census Bureau removes and reserves 15 CFR part 40.

[FR Doc. 2026-01242 Filed 1-22-26; 8:45 am]

BILLING CODE 3510-07-P